NUCLEAR REGULATORY COMMISSION

[Docket No. 72-3]

Notice of Docketing and Issuance of Amendment to Materials License SNM-2502, Carolina Power and Light Company, H.B. Robinson Steam Electric Plant, Independent Spent Fuel Storage Installation

AGENCY: Nuclear Regulatory Commission.

ACTION: Notice of Issuance of Amendment to Materials License SNM-2502.

FOR FURTHER INFORMATION CONTACT: Kevin M. Witt, Project Manager, Division of Spent Fuel Storage and Transportation, Office of Nuclear Material Safety and Safeguards, Mail Stop EBB-3D-02M, U.S. Nuclear Regulatory Commission, Washington, DC 20555-0001. Telephone: (301) 492-3323; e-mail: Kevin.Witt@nrc.gov.

SUPPLEMENTARY INFORMATION: On March 30, 2005, the U.S. Nuclear Regulatory Commission (NRC or the Commission) renewed NRC Materials License No. SNM-2502 to the Carolina Power And Light Company (CP&L) for the H.B. Robinson Steam Electric Plant (HBRSEP) Independent Spent Fuel Storage Installation (ISFSI), located in Hartsville, South Carolina. The renewed license authorizes CP&L to receive, possess, store, and transfer spent nuclear fuel and associated radioactive materials resulting from the operation of the HBRSEP in an ISFSI at the power plant site for a term of 40 years. The NRC staff also issued an Environmental Assessment and Finding of No Significant Impact related to the issuance of the renewed ISFSI license on March 17, 2005, in accordance with the National Environmental Policy Act, and in conformance with the applicable requirements of 10 CFR Part 51.

On September 26, 2007, CP&L submitted an application to NRC, in accordance with 10 CFR Part 72, requesting an amendment to NRC Materials License No. SNM-2502. CP&L's license amendment requests four separate administrative changes. Specifically, the first administrative change request was to delete the preoperational license conditions in Section 1.2 of the Technical Specifications (TSs). The second administrative change request was to revise the referenced drawing numbers from the original vendor numbers to the plant's document control numbers. The third administrative change request was to clarify that the lifting height restriction specified in Table 2-1 of Appendix A is measured in feet—the licensee has requested that the single apostrophe symbol be replaced by the abbreviation “ft.” The fourth administrative change request was to clarify the level of sensitivity and titles of training plans. An additional change was made by the NRC to correct a regulatory reference in the safeguards license condition (TS Appendix B) description of the amendment process. As a result of these change requests, CP&L also requested the pages of the TSs be re-formatted to ensure consistent page numbering.

Pursuant to 10 CFR 72.46, the NRC has docketed, approved and issued Amendment No. 1 to Materials License No. SNM-2502 held by CP&L for the receipt, possession, transfer, and storage of spent fuel at the HBRSEP ISFSI. Amendment No. 1 is effective as of the date of issuance.

Amendment No. 1 complies with the standards and requirements of the Atomic Energy Act of 1954, as amended (the Act), and the Commission's rules and regulations. The Commission has made appropriate findings, as required by the Act and the Commission's rules and regulations in 10 CFR Chapter 1, which are set forth in Amendment No. 1. The issuance of Amendment No. 1 satisfied the criteria specified in 10 CFR 51.22(c)(11) for a categorical exclusion. Thus, the preparation of an environmental assessment or an environmental impact statement is not required.

In accordance with 10 CFR 72.46(b)(2), the NRC has determined that Amendment No. 1 does not present a genuine issue as to whether public health and safety will be significantly affected. Therefore, the publication of a notice of proposed action and an opportunity for hearing or a notice of hearing is not warranted. Notice is hereby given of the right of interested persons to request a hearing on whether the action should be rescinded or modified.

Further Information:

For further details with respect to this action, see the application dated September 26, 2007, and Amendment No. 1, which are available electronically, at NRC's Electronic Reading Room, at: http://www.nrc.gov/reading-rm/adams.html. From this site, you can access NRC's Agencywide Document Access and Management System (ADAMS), which provides text and image files of NRC's public documents. The ADAMS accession number for the application is ML072820139 and the ADAMS accession number for Amendment No. 1 is ML082560545. If you do not have access to ADAMS, or if there are problems in accessing the documents located in ADAMS, contact NRC's Public Document Room (PDR) Reference staff at 1-800-397-4209, 301-415-4737, or by e-mail to pdr@nrc.gov.

These documents may also be viewed electronically on the public computers located at NRC's PDR, O1-F21, One White Flint North, 11555 Rockville Pike, Rockville, MD 20852. The PDR reproduction contractor will copy documents, for a fee.

Dated at Rockville, Maryland, this 12th day of September, 2008.
For the Nuclear Regulatory Commission.
Kevin M. Witt,
Project Manager, Licensing Branch, Division of Spent Fuel Storage and Transportation, Office of Nuclear Material Safety and Safeguards.

[FR Doc. E8-22048 Filed 9-19-08; 8:45 am]

BILLING CODE 7590-01-P